DEPARTMENT OF COMMERCE

Foreign-Trade Zones Board

Order No. 1467

Expansion of Foreign-Trade Zone 163, Ponce, Puerto Rico

Pursuant to its authority under the Foreign-Trade Zones Act of June 18, 1934, as amended (19 U.S.C. 81a-81u), the Foreign-Trade Zones Board (the Board) adopts the following Order:

Whereas, CODEZOL, C.D., grantee of Foreign-Trade Zone 163, submitted an application to the Board for authority to expand FTZ 163 to include a site in Guaynabo, Puerto Rico, adjacent to the San Juan Customs and Border Protection port of entry (FTZ Docket 67-2005, filed 12/22/2005);

Whereas, notice inviting public comment has been given in the Federal Register (70 FR 77376-77377, 12/30/2005); and,

Whereas, the Board adopts the findings and recommendations of the examiner's report, and finds that the requirements of the FTZ Act and Board's regulations are satisfied, and that approval of the application is in the public interest;

Now, therefore, the Board hereby orders:

The application to expand FTZ 163 is approved, subject to the FTZ Act and the Board's regulations, including Section 400.28.

Signed at Washington, DC, this 26th day of July 2006.

David M. Spooner,
Assistant Secretary of Commerce for Import Administration, Alternate Chairman, Foreign-Trade Zones Board.
Attest:
Andrew McGilvray,
Acting Executive Secretary.

[FR Doc. E6-12810 Filed 8-7-06; 8:45 am]

Billing Code: 3510-DS-S